NUCLEAR REGULATORY COMMISSION

[NRC-2020-0227]

Operator Licensing Examination Standards for Power Reactors

AGENCY: Nuclear Regulatory Commission.

ACTION: Draft NUREG; request for comment.

SUMMARY: The U.S. Nuclear Regulatory Commission (NRC) is issuing for public comment a draft NUREG, NUREG-1021, Revision 12, “Operator Licensing Examination Standards for Power Reactors.” NUREG-1021 establishes the policies, procedures, and guidance for the development, administration, and grading of written examinations and operating tests used for examining licensees and applicants for reactor operator and senior reactor operator licenses at power reactor facilities. It also provides procedures and guidance for maintaining operators' licenses and for the NRC to conduct requalification examinations when necessary. The draft NUREG streamlines the examination standards by organizing them in topic-based sections for ease of use, clarifies existing instructions, and introduces new instructions.

DATES: Submit comments by February 16, 2021. Comments received after this date will be considered if it is practical to do so, but the NRC staff is able to ensure consideration only for comments received on or before this date.

ADDRESSES: You may submit comments by any of the following methods; however, the NRC encourages electronic comment submission through the Federal Rulemaking website:

• Federal Rulemaking website: Go to https://www.regulations.gov and search for Docket ID NRC-2020-0227. Address questions about Docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Maurin Scheetz, Office of Nuclear Reactor Regulation, U.S. Nuclear Regulatory Commission, Washington, DC 20555-0001; telephone: 301-415-2758, email: maurin.scheetz@nrc.gov.

SUPPLEMENTARY INFORMATION:

I. Obtaining Information and Submitting Comments

A. Obtaining Information

Please refer to Docket ID NRC-2020-0227 when contacting the NRC about the availability of information for this action. You may obtain publicly available information related to this action by any of the following methods:

• Federal Rulemaking website: Go to https://www.regulations.gov and search for Docket ID NRC-2020-0227.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. Draft Revision 12 of NUREG-1021 is available in ADAMS under Accession No. ML20329A326. A supporting document that captures changes from Revision 11 to draft Revision 12 is available in ADAMS under Accession No. ML20325A254.

• Attention: The PDR, where you may examine and purchase copies of public documents, is currently closed. You may submit your request to the PDR by email to PDR.Resource@nrc.gov or call 1-800-397-4209 between 8:00 a.m. and 4:00 p.m. (EST), Monday through Friday, except Federal holidays.

B. Submitting Comments

The NRC encourages electronic comment submission through the Federal Rulemaking website (https://www.regulations.gov). Please include Docket ID NRC-2020-0227 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

The draft NUREG-1021, Revision 12, provides policies, procedures, and guidance for the development, administration, and grading of examinations used for licensing operators at nuclear power plants under the Commission's regulations in part 55 of title 10 of the Code of Federal Regulations, “Operators' Licenses.” This draft NUREG also provides guidance for maintaining operators' licenses and for the NRC to conduct requalification examinations when necessary. The NRC is issuing the draft NUREG to (1) streamline information into topic-based sections for ease of use, (2) clarify instructions for the identification and grading of performance deficiencies on the operating test, (3) introduce new instructions for the treatment of critical tasks and critical and significant performance deficiencies, and (4) implement changes to support the reintegration of the generic fundamentals examination with the site-specific initial licensing examination. To assist in understanding the changes in the draft NUREG, a supporting document that captures changes from Revision 11 to draft Revision 12 is available in ADAMS under Accession No. ML20325A254.

Dated: November 25, 2020.
For the Nuclear Regulatory Commission.
Christian B. Cowdrey,
Chief, Operator Licensing and Human Factors Branch, Division of Reactor Oversight, Office of Nuclear Reactor Regulation.

[FR Doc. 2020-26460 Filed 11-30-20; 8:45 am]

BILLING CODE 7590-01-P